OVERSEAS PRIVATE INVESTMENT CORPORATION

September 5, 2002 Public Hearing

OPIC's Sunshine Act notice of its public hearing was published in the Federal Register (Volume 67, Number 163, Page 54504) on August 22, 2002. No requests were received to provide testimony or submit written statements for the record; therefore, OPIC's public hearing in conjunction with OPIC's September 12, 2002 Board of Directors meeting scheduled for 2 p.m. on September 5, 2002 has been cancelled.

CONTACT PERSON FOR INFORMATION: Information on the hearing cancellation may be obtained from Connie M. Downs at (202) 336-8438, via facsimile at (202) 218-0136, or via email at cdown@opic.gov.

Dated: May 16, 2002.
Connie M. Downs,
OPIC Corporate Secretary.

[FR Doc. 02-22803 Filed 9-4-02; 12:42 pm]

BILLING CODE 3210-01-M